ENVIRONMENTAL PROTECTION AGENCY

[EPA-HQ-RCRA-2014-0694; FRL—9922-67-OEI]

Information Collection Request Submitted to OMB for Review and Approval; Comment Request; Requirements and Exemptions for Specific RCRA Wastes (Renewal)

AGENCY: Environmental Protection Agency (EPA).

ACTION: Notice.

SUMMARY: The Environmental Protection Agency has submitted an information collection request (ICR), “Requirements and Exemptions for Specific RCRA Wastes (Renewal)” (EPA ICR No. 1597.11, OMB Control No. 2050-0145) to the Office of Management and Budget (OMB) for review and approval in accordance with the Paperwork Reduction Act (44 U.S.C. 3501 et seq.). This is a proposed extension of the ICR, which is currently approved through February 28, 2015. Public comments were previously requested via the Federal Register (79 FR 65652) on November 5, 2014 during a 60-day comment period. This notice allows for an additional 30 days for public comments. A fuller description of the ICR is given below, including its estimated burden and cost to the public. An Agency may not conduct or sponsor and a person is not required to respond to a collection of information unless it displays a currently valid OMB control number.

DATES: Additional comments may be submitted on or before March 25, 2015.

ADDRESSES: Submit your comments, referencing Docket ID No. EPA-HQ-RCRA-2014-0694, to (1) EPA online using www.regulations.gov (our preferred method), by email to rcra-docket@epa.gov, or by mail to: EPA Docket Center, Environmental Protection Agency, Mail Code 28221T, 1200 Pennsylvania Ave. NW., Washington, DC 20460, and (2) OMB via email to oira_submission@omb.eop.gov. Address comments to OMB Desk Officer for EPA.

EPA's policy is that all comments received will be included in the public docket without change including any personal information provided, unless the comment includes profanity, threats, information claimed to be Confidential Business Information (CBI) or other information whose disclosure is restricted by statute.

FOR FURTHER INFORMATION CONTACT: Peggy Vyas, Environmental Protection Agency, 1200 Pennsylvania Ave. NW., Washington, DC 20460; telephone number: 703-308-5477; fax number: 703-308-8433; email address: vyas.peggy@epa.gov.

SUPPLEMENTARY INFORMATION: Supporting documents, which explain in detail the information that the EPA will be collecting, are available in the public docket for this ICR. The docket can be viewed online at www.regulations.gov or in person at the EPA Docket Center, EPA WJC, Room 3334, 1301 Constitution Ave. NW., Washington, DC. The telephone number for the Docket Center is 202-566-1744. For additional information about EPA's public docket, visit http://www.epa.gov/dockets.

Abstract: In 1995, EPA promulgated regulations at 40 CFR part 273 that govern the collection and management of widely-generated hazardous wastes known as “Universal Wastes.” Part 273 regulations are designed to ensure facilities collect and properly manage these wastes. EPA needs to collect notifications of Universal Waste management to obtain general information on handlers and to facilitate enforcement of the part 273 regulations, to ensure that Universal Waste is being accumulated responsibly, to collect information on illegal Universal Waste shipments, and lastly to help ensure that Universal Waste is being properly treated, recycled, and/or disposed. In 2001, EPA promulgated regulations in 40 CFR part 266 that provide increased flexibility to facilities managing wastes commonly known as “Mixed Waste.” Section 266.345(a) requires that generators or treaters notify EPA or the Authorized State that they are claiming the Transportation and Disposal Conditional Exemption prior to the initial shipment of a waste to a LLRW disposal facility. Finally, the regulations at 40 CFR part 279 establish streamlined procedures for notification, testing, labeling, and recordkeeping including an approach for tracking off-site shipments that allow used oil handlers to use standard business practices (e.g., invoices, bill of lading). Used oil transporters must comply with all applicable packaging, labeling, and placarding requirements of 49 CFR parts 173, 178, and 179. In addition, used oil transporters must report discharges of used oil according to existing 49 CFR part 171 and 33 CFR part 153 requirements.

Form Numbers: None.

Respondents/affected entities: Private Sector and State, Local, or Tribal Governments.

Respondent's obligation to respond: Mandatory (40 CFR part 273), required to obtain or retain a benefit (40 CFR parts 266 and 279).

Estimated number of respondents: 134,280.

Frequency of response: Occasionally.

Total estimated burden: 679,354 hours per year. Burden is defined at 5 CFR 1320.03(b)

Total estimated cost: $44,737,952 (per year), includes $10,015,823 annualized capital or operation & maintenance costs.

Changes in the Estimates: There is an increase of 28,189 hours in the total estimated respondent burden compared with the ICR currently approved by OMB. This increase is due to updating the current Universe and Mixed Waste estimates.

Courtney Kerwin,
Acting Director, Collection Strategies Division.

[FR Doc. 2015-03541 Filed 2-20-15; 8:45 am]

BILLING CODE 6560-50-P